NATIONAL FOUNDATION ON THE ARTS AND THE HUMANITIES

Institute of Museum and Library Services

Notice of Proposed Information Collection Request: National Museum Survey

AGENCY: Institute of Museum and Library Services, National Foundation on the Arts and the Humanities.

ACTION: Submission for OMB Review, request for comments.

SUMMARY: The Institute of Museum and Library Services (IMLS) announces that the following information collection request has been submitted to the Office of Management and Budget (OMB) for review and approval in accordance with the Paperwork Reduction Act of 1995. This annual survey will collect statistically valid data on the U.S. museum sector, which does not currently exist. The data will describe the scope, scale and nature of museums' presence and reach within the U.S. This program helps to ensure that requested data can be provided in the desired format, reporting burden (time and financial resources) is minimized, collection instruments are clearly understood, and the impact of collection requirements on respondents can be properly assessed. The purpose of this Notice is to solicit comments about this assessment process, instructions, and data collections. This is the second notice for public comment. A copy of the proposed information collection request can be obtained by contacting the individual listed below in the FOR FURTHER INFORMATION CONTACT section of this Notice.

DATES: Written comments on this notice must be submitted to the office listed in the ADDRESSES section below on or before October 30, 2024.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Written comments and recommendations for proposed information collection requests should be sent within 30 days of publication of this notice www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

FOR FURTHER INFORMATION CONTACT: Jake Soffronoff, Survey Methodologist, Office of Research and Evaluation, Institute of Museum and Library Services, 955 L'Enfant Plaza North SW, Suite 4000, Washington, DC 20024-2135. Mr. Soffronoff can be reached by telephone at 202-653-4648, or by email at jsoffronoff@imls.gov. Persons who are deaf or hard of hearing (TTY users) may contact IMLS at 202-207-7858 via 711 for TTY-Based Telecommunications Relay Service.

SUPPLEMENTARY INFORMATION: IMLS is the primary source of federal support for the nation's libraries and museums. We advance, support, and empower America's museums, libraries, and related organizations through grant making, research, and policy development. To learn more, visit www.imls.gov.

Current Actions: This Notice proposes the clearance of a new information collection—the National Museum Survey (NMS). As noted in the 60-day notice, IMLS will be conducting a voluntary survey of museums that aims to capture the scope and scale of museums' presence and reach within the United States over time. This annual survey will collect statistically valid data on the U.S. museum sector, which does not currently exist. The data will describe the scope, scale and nature of museums' presence and reach within the U.S. NMS data will be useful to museum practitioners, policymakers at the federal, state, and local levels, the public, researchers, and journalists, and will be used for planning, research, evaluation, and policymaking.

The 60-day Notice was published in the Federal Register on April 30, 2024 [89 FR 34277 (Document Number 2024-09276)]. We received one comment under this Notice. That comment came from a representative of the American Library Association who wanted to ensure that museums located within libraries were included in, and eligible for, the NMS. The representative subsequently provided a list of such institutions for IMLS to cross-reference against the agency's list of museums to whom the NMS will be administered. Any such institutions that were not already included were added to IMLS' list.

Agency: Institute of Museum and Library Services.

Title: National Museum Survey.

OMB Control Number: 3137-NEW.

Agency Number: 3137.

Respondents/Affected Public: IMLS plans to conduct a census of all eligible U.S. museums representing a broad range of museum disciplines, including zoos, aquariums, botanical gardens, and arboretums; nature and science centers; history museums and historic sites; art museums; children's museums; natural history museums; and general and specialized museums.

Institutions must meet all the following criteria to be eligible for selection:

• Be a unit of federal, state, local, or tribal government, or a not-for-profit institution.

• Serve the public in a physical location it owns or operates.

• Provide exhibitions and programs.

• Primarily function to house, display, and care for animate or inanimate objects that form the core of its exhibitions, programs, and research.

• Under normal circumstances, be open to the public 90 days or more per year, either through specific hours of operation or by appointment.

• Have at least one staff member, or the full-time equivalent, whether paid or unpaid.

IMLS will request that a senior administrator at each institution be responsible for the completion of the survey at their institution.

Total Estimated Number of Annual Respondents: The survey's expected response rate is 35 percent, leading to approximately 7,500 completed cases.

Frequency of Response: Once per request.

Average Minutes per Response: 1 hour.

Total Estimated Number of Annual Burden Hours: 7,500.

Total Annualized Capital/Startup Costs: n/a.

Total Annual Cost Burden (dollars): $431,718.75 (7,500 hrs × $57.56/hr). $57.56 represents a simple average of hourly mean wage figures for government, academic, and company/enterprise managers (https://www.bls.gov/oes/current/oes113012.htm).

Total Annual Federal Costs: $323,533.21.

Dated: September 24, 2024.
Suzanne Mbollo,
Grants Management Specialist, Institute of Museum and Library Services.

[FR Doc. 2024-22257 Filed 9-27-24; 8:45 am]

BILLING CODE 7036-01-P